SECURITIES AND EXCHANGE COMMISSION

[File No. 500-1]

China Green Lighting Limited, China Kangtai Cactus Bio-Tech, Inc., Gemco Minerals, Inc., Perfectenergy International Limited, and Rodobo International, Inc.; Order of Suspension of Trading

May 21, 2014.

China Green Lighting Limited (CIK No. 1421378) is a delinquent Colorado corporation located in Jiangshan City, China with a class of securities registered with the Commission pursuant to Exchange Act Section 12(g). China Green Lighting Limited is delinquent in its periodic filings with the Commission, having not filed any periodic reports since it filed a Form 10-Q for the period ended September 30, 2011, which reported a net loss of $1,252,940 for the prior nine months. As of May 8, 2014, the company's stock (symbol “CHGL”) was quoted on OTC Link (previously, “Pink Sheets”) operated by OTC Markets Group, Inc. (“OTC Link”), had three market makers, and was eligible for the “piggyback” exception of Exchange Act Rule 15c2-11(f)(3). It appears to the Securities and Exchange Commission that there is a lack of current and accurate information concerning the securities of China Green Lighting Limited because it has not filed any periodic reports since the period ended September 30, 2011.

China Kangtai Cactus Bio-Tech, Inc. (CIK No. 1017699) is a revoked Nevada corporation located in Harbin, China with a class of securities registered with the Commission pursuant to Exchange Act Section 12(g). China Kangtai Cactus Biotech, Inc. is delinquent in its periodic filings with the Commission, having not filed any periodic reports since it filed a Form 10-Q for the period ended September 30, 2011. As of May 8, 2014, the company's stock (symbol “CKGT”) was quoted on OTC Link, had eight market makers, and was eligible for the “piggyback” exception of Exchange Act Rule 15c2-11(f)(3). It appears to the Securities and Exchange Commission that there is a lack of current and accurate information concerning the securities of China Kangtai Cactus Biotech, Inc. because it has not filed any periodic reports since the period ended September 30, 2011.

Gemco Minerals, Inc. (CIK No. 1338118) is a Florida corporation located in Langley, British Columbia, Canada, with a class of securities registered with the Commission pursuant to Exchange Act Section 12(g). Gemco Minerals, Inc. is delinquent in its periodic filings with the Commission, having not filed any periodic reports since it filed a Form 10-Q for the period ended November 30, 2009, which reported a net loss of $3,394,046 since the company's August 21, 1997 inception. As of May 8, 2014, the company's stock (symbol “GMML”) was quoted on OTC Link, had three market makers, and was eligible for the “piggyback” exception of Exchange Act Rule 15c2-11(f)(3). It appears to the Securities and Exchange Commission that there is a lack of current and accurate information concerning the securities of Gemco Minerals, Inc. because it has not filed any periodic reports since the period ended November 30, 2009.

Perfectenergy International Limited (CIK No. 1345432) is a revoked Nevada corporation located in Shanghai, China with a class of securities registered with the Commission pursuant to Exchange Act Section 12(g). Perfectenergy International Limited is delinquent in its periodic filings with the Commission, having not filed any periodic reports since it filed a Form 10-K for the fiscal year ended September 30, 2011, which reported a net loss of $7,627,177 for the prior eleven months. As of May 8, 2014, the company's stock (symbol “PFGY”) was quoted on OTC Link, had six market makers, and was eligible for the “piggyback” exception of Exchange Act Rule 15c2-11(f)(3). It appears to the Securities and Exchange Commission that there is a lack of current and accurate information concerning the securities of Perfectenergy International Limited because it has not filed any periodic reports since the period ended September 30, 2011.

Rodobo International, Inc. (CIK No. 1177274) is a revoked Nevada corporation located in Harbin, China with a class of securities registered with the Commission pursuant to Exchange Act Section 12(g). Rodobo International, Inc. is delinquent in its periodic filings with the Commission, having not filed any periodic reports since it filed a Form 10-Q for the period ended June 30, 2011, which reported a net loss of $6,892,633 for the prior three months. As of May 8, 2014, the company's stock (symbol “RDBO”) was quoted on OTC Link, had four market makers, and was eligible for the “piggyback” exception of Exchange Act Rule 15c2-11(f)(3). It appears to the Securities and Exchange Commission that there is a lack of current and accurate information concerning the securities of Rodobo International, Inc. because it has not filed any periodic reports since the period ended June 30, 2011.

The Commission is of the opinion that the public interest and the protection of investors require a suspension of trading in the securities of the above-listed companies.

Therefore, it is ordered, pursuant to Section 12(k) of the Securities Exchange Act of 1934, that trading in the securities of the above-listed companies is suspended for the period from 9:30 a.m. e.d.t. on May 21, 2014, through 11:59 p.m. e.d.t. on June 4, 2014.

By the Commission.
Jill M. Peterson,
Assistant Secretary.

[FR Doc. 2014-12111 Filed 5-21-14; 11:15 am]

BILLING CODE 8011-01-P